FEDERAL MARITIME COMMISSION

Ocean Transportation Intermediary License Revocations

The Commission gives notice that the following Ocean Transportation Intermediary license has been revoked pursuant to section 19 of the Shipping Act of 1984 (46 U.S.C. 40101) effective on the date shown.

License No.: 021062F.

Name: International Trade Compliance Group, LLC.

Address: 101 North Riverside Drive, Suite 203, Pompano Beach, FL 33062.

Date Revoked: February 20, 2013.

Reason: Voluntary Surrender of License.

Vern W. Hill,
Director, Bureau of Certification and Licensing.

[FR Doc. 2013-05311 Filed 3-6-13; 8:45 am]

BILLING CODE 6730-01-P